DEPARTMENT OF ENERGY

Federal Energy Regulatory Commission

[Docket No. RP03-273-003]

Transcontinental Gas Pipe Line Corporation; Notice of Compliance Filing

December 24, 2003.

Take notice that on December 19, 2003 Transcontinental Gas Pipe Line Corporation (Transco) tendered for filing as part of its FERC Gas Tariff, Third Revised Volume No. 1 certain revised tariff sheets. The enumeration and proposed effective dates of the revised tariff sheets are included in Appendix A attached to the filing.

Transco states that the purpose of the instant filing is to recalculate its fuel retention percentages for transmission services and Rate Schedule GSS storage service to be effective April 1, 2003 as a result of a Commission Order dated October 7, 2003 in Docket No. TM99-6-29 et al. Specifically, Transco has adjusted its fuel retention percentages to reflect (1) the revised balance in the Deferred GRO Account as of January 31, 2003 and (ii) the amortization (one-seventh) of a prior period adjustment quantity approved for collection by the Commission.

Transco states that copies of the filing are being mailed to affected customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E3-00676 Filed 12-31-03; 8:45 am]

BILLING CODE 6717-01-P